SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1, 2012, through March 31, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. EXCO Resources (PA), LLC, Pad ID: Elk Run Hunt Club Drilling Pad 1, ABR-201203001, Davidson Township, Sullivan County, Pa.; Consumptive Use of Up to 8.000 mgd; Approval Date: March 8, 2012.

2. EOG Resources, Inc., Pad ID: WOLFE B Pad, ABR-201203002, Athens Township, Bradford County, Pa.; Consumptive Use of Up to 4.999 mgd; Approval Date: March 12, 2012.

3. EOG Resources, Inc., Pad ID: SGL 94D Pad, ABR-201203003, Lawrence Township, Clearfield County, Pa.; Consumptive Use of Up to 4.999 mgd; Approval Date: March 12, 2012.

4. Southwestern Energy Production Company, Pad ID: EASTMAN, ABR-201203004, New Milford Township, Susquehanna County, Pa.; Consumptive Use of Up to 4.999 mgd; Approval Date: March 12, 2012.

5. Southwestern Energy Production Company, Pad ID: GREMMEL, ABR-201203005, Jackson Township, Susquehanna County, Pa.; Consumptive Use of Up to 4.999 mgd; Approval Date: March 12, 2012.

6. Southwestern Energy Production Company, Pad ID: BIENKO, ABR-201203006, New Milford and Jackson Townships, Susquehanna County, Pa.; Consumptive Use of Up to 4.999 mgd; Approval Date: March 12, 2012.

7. Talisman Energy USA, Inc., Pad ID: 03 109 Alderfer H, ABR-201203007, Columbia Township, Bradford County, Pa.; Consumptive Use of Up to 6.000 mgd; Approval Date: March 12, 2012.

8. EOG Resources, Inc., Pad ID: SGL 94C Pad, ABR-201203008, Lawrence Township, Clearfield County, Pa.; Consumptive Use of Up to 4.999 mgd; Approval Date: March 13, 2012.

9. EOG Resources, Inc., Pad ID: GHFC Pad D, ABR-201203009, Goshen Township, Clearfield County, Pa.; Consumptive Use of Up to 4.999 mgd; Approval Date: March 13, 2012.

10. Inflection Energy LLC, Pad ID: Nature Boy East, ABR-201203010, Upper Fairfield Township, Lycoming County, Pa.; Consumptive Use of Up to 4.000 mgd; Approval Date: March 13, 2012.

11. WPX Energy Appalachia, LLC, Pad ID: McNamara Well Pad, ABR-201203011, Silver Lake Township, Susquehanna County, Pa.; Consumptive Use of Up to 4.000 mgd; Approval Date: March 13, 2012.

12. WPX Energy Appalachia, LLC, Pad ID: Adams Well Pad, ABR-201203012, Silver Lake Township, Susquehanna County, Pa.; Consumptive Use of Up to 4.000 mgd; Approval Date: March 13, 2012.

13. Cabot Oil & Gas Corporation, Pad ID: ManzerA P1, ABR-201203013, Gibson Township, Susquehanna County, Pa.; Consumptive Use of Up to 3.575 mgd; Approval Date: March 14, 2012.

14. Chesapeake Appalachia, LLC, Pad ID: R&N, ABR-201203014, Cherry Township, Sullivan County, Pa.; Consumptive Use of Up to 7.500 mgd; Approval Date: March 14, 2012.

15. Cabot Oil & Gas Corporation, Pad ID: MackeyR P1, ABR-201203015, Lathrop Township, Susquehanna County, Pa.; Consumptive Use of Up to 3.575 mgd; Approval Date: March 14, 2012.

16. Cabot Oil & Gas Corporation, Pad ID: TeddickM P1, ABR-201203016, Brooklyn Township, Susquehanna County, Pa.; Consumptive Use of Up to 3.575 mgd; Approval Date: March 14, 2012.

17. Ultra Resources, Inc., Pad ID: Granger 853, ABR-201203017, Gaines Township, Tioga County, Pa.; Consumptive Use of Up to 4.990 mgd; Approval Date: March 19, 2012.

18. Chesapeake Appalachia, LLC, Pad ID: Matthews, ABR-201203018, Sheshequin Township, Bradford County, Pa.; Consumptive Use of Up to 7.500 mgd; Approval Date: March 20, 2012.

19. Chesapeake Appalachia, LLC, Pad ID: Floydie, ABR-201203019, Tuscarora Township, Bradford County, Pa.; Consumptive Use of Up to 7.500 mgd; Approval Date: March 20, 2012.

20. Chesapeake Appalachia, LLC, Pad ID: Maggie, ABR-201203020, Tuscarora Township, Bradford County, Pa.; Consumptive Use of Up to 7.500 mgd; Approval Date: March 20, 2012.

21. Chesapeake Appalachia, LLC, Pad ID: CMI, ABR-201203021, Wysox Township, Bradford County, Pa.; Consumptive Use of Up to 7.500 mgd; Approval Date: March 20, 2012.

22. SWEPI, LP, Pad ID: Parker 727, ABR-201203022, Liberty Township, Tioga County, Pa.; Consumptive Use of Up to 4.000 mgd; Approval Date: March 21, 2012.

23. SWEPI, LP, Pad ID: Schanbacher 711, ABR-201203023, Liberty Township, Tioga County, Pa.; Consumptive Use of Up to 4.000 mgd; Approval Date: March 21, 2012.

24. Chesapeake Appalachia, LLC, Pad ID: Schulze, ABR-201203024, Rush Township, Susquehanna County, Pa.; Consumptive Use of Up to 7.500 mgd; Approval Date: March 21, 2012.

25. Chief Oil & Gas, LLC, Pad ID: Stasiak Drilling Pad #1, ABR-201203025, Pike Township, Bradford County, Pa.; Consumptive Use of Up to 2.000 mgd; Approval Date: March 23, 2012.

26. Chief Oil & Gas, LLC, Pad ID: Ober Drilling Pad #1, ABR-201203026, Asylum Township, Bradford County, Pa.; Consumptive Use of Up to 2.000 mgd; Approval Date: March 23, 2012.

27. SWEPI, LP, Pad ID: Wilson 286, ABR-201203027, Charleston Township, Tioga County, Pa.; Consumptive Use of Up to 4.000 mgd; Approval Date: March 27, 2012.

28. Range Resources—Appalachia, LLC, Pad ID: Porter, Stephen, ABR-201203028, Cogan House Township, Lycoming County, Pa.; Consumptive Use of Up to 5.000 mgd; Approval Date: March 27, 2012.

29. Range Resources—Appalachia, LLC, Pad ID: Roaring Run Unit, ABR-201203029, Cogan House Township, Lycoming County, Pa.; Consumptive Use of Up to 5.000 mgd; Approval Date: March 27, 2012.

30. Chesapeake Appalachia, LLC, Pad ID: Hattie BRA, ABR-201203030, Wilmot Township, Bradford County, Pa.; Consumptive Use of Up to 7.500 mgd; Approval Date: March 30, 2012.

31. Chesapeake Appalachia, LLC, Pad ID: Circle Z BRA, ABR-201203031, Wilmot Township, Bradford County, Pa.; Consumptive Use of Up to 7.500 mgd; Approval Date: March 30, 2012.

32. Chesapeake Appalachia, LLC, Pad ID: RBF BRA, ABR-201203032, Wysox Township, Bradford County, Pa.; Consumptive Use of Up to 7.500 mgd; Approval Date: March 30, 2012.

33. Chesapeake Appalachia, LLC, Pad ID: Rainbow BRA, ABR-201203033, Terry Township, Bradford County, Pa.; Consumptive Use of Up to 7.500 mgd; Approval Date: March 30, 2012.

Authority: Pub. L. 91-575, 84 Stat. 1509 et seq., 18 CFR parts 806, 807, and 808.

Dated: April 13, 2012.
Stephanie L. Richardson,
Secretary to the Commission.

[FR Doc. 2012-10004 Filed 4-25-12; 8:45 am]

BILLING CODE 7040-01-P